DEPARTMENT OF TRANSPORTATION

Coast Guard

[USCG 2002-13766]

Collection of Information Under Review by Office of Management and Budget (OMB): OMB Control Numbers 2115-0142, 2115-0089, 2115-0137, 2115-0143, and 2115-0541

AGENCY: Coast Guard, DOT.

ACTION: Request for comments.

SUMMARY: In compliance with the Paperwork Reduction Act of 1995, the Coast Guard intends to seek the approval of OMB for the renewal of five Information Collection Requests (ICRs). The ICRs comprise (1) Approval of Plans and Records for Marine Engineering Systems—46 CFR Subchapter F; (2) Ships Carrying Bulk Hazardous Liquids; (3) Report of Discharge of Oil or Hazardous Substance; (4) Records Relating to Citizenship of Personnel on Units Engaged in Activities on Outer Continental Shelf (OCS); and (5) Barges Carrying Bulk Hazardous Materials. Before submitting the ICRs to OMB, the Coast Guard is inviting comments on them as described below.

DATES: Comments must reach the Coast Guard on or before January 21, 2003.

ADDRESSES: To make sure that your comments and related material do not enter the docket (USCG 2002-13766) more than once, please submit them by only one of the following means:

(1) By mail to the Docket Management Facility, U.S. Department of Transportation (DOT), Room PL-401, 400 Seventh Street SW., Washington, DC 20590-0001. Caution: Because of recent delays in the delivery of mail, your comments may reach the Facility more quickly if you choose one of the other means described below.

(2) By delivery to Room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments and material received from the public, as well as documents mentioned in this notice as being available in the docket, will become part of this docket and will be available for inspection or copying at Room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, Room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. DOT, 202-366-5149, for questions on the docket.

Request for Comments

The Coast Guard encourages interested persons to submit comments. Persons submitting comments should include their names and addresses, identify this document by docket number (USCG 2002-13766), and give the reasons for the comments. Please submit all comments and attachments in an unbound format no larger than 8½ by 11 inches, suitable for copying and electronic filing. Persons wanting acknowledgment of receipt of comments should enclose stamped self-addressed postcards or envelopes.

Information Collection Requests

1. Title: Approval of Plans and Records for Marine Engineering Systems—46 CFR Subchapter F.

OMB Control Number: 2115-0142.

Summary: This collection of information requires an owner or builder of a commercial vessel to submit to the U.S. Coast Guard, for review and approval, plans pertaining to marine-engineering systems to ensure that the vessel will meet regulatory standards.

Need: 46 U.S.C. 3306 authorizes the Coast Guard to prescribe rules for safety of vessels, including those related to marine-engineering systems. 46 CFR subchapter F prescribes them. They provide the specifications, standards, and requirements for strength and adequacy of design, construction, installation, inspection, and choice of materials for machinery, boilers, pressure vessels, safety valves, and piping systems upon which safety of life depends.

Respondents: Owners and builders of commercial vessels.

Frequency: On occasion.

Burden Estimate: The estimated burden is 3,090 hours a year.

2. Title: Ships Carrying Bulk Hazardous Liquids.

OMB Control Number: 2115-0089.

Summary: This information is needed to ensure the safe transport of bulk hazardous liquids on chemical tank vessels and to protect the environment from pollution.

Need: 46 U.S.C. 3703 authorizes the Coast Guard to prescribe rules for protection against hazards to life, property, and the marine environment. 46 CFR part 153 prescribes rules for the safe transport by vessel of bulk hazardous liquids.

Respondents: Owners and operators of chemical tank vessels.

Frequency: On occasion.

Burden Estimate: The estimated burden is 738 hours a year.

3. Title: Report of Discharge of Oil or Hazardous Substance.

OMB Control Number: 2115-0137.

Summary: The collection of information requires any person in charge of a vessel or an onshore or offshore facility to report to the National Response Center, as soon as he or she knows of any discharge of oil or a hazardous substance.

Need: 33 CFR 153.203, 40 CFR 263.30 and 264.56, and 49 CFR 171.15 mandate that the Center be the central place for the public to report all polluting spills. The information collected goes to it.

Respondents: Persons in charge of vessels or onshore or offshore facilities.

Frequency: On occasion.

Burden Estimate: The estimated burden is 8,667 hours a year.

4. Title: Records Relating to Citizenship of Personnel on Units Engaged in Activities on OCS.

OMB Control Number: 2115-0143.

Summary: Vessels and units engaged in activities on the Outer Continental Shelf OCS (exploration and exploitation of offshore resources such as gas and oil) must be manned and crewed by U.S. citizens or permanent resident aliens (43 U.S.C. 1356). Employers must, by 33 CFR 141.35, maintain records demonstrating compliance.

Need: This information is needed to ensure compliance with the statutory mandates to man or crew OCS facilities with U.S. citizens or permanent resident aliens.

Respondents: Operators of vessels and units engaged in activities on the OCS.

Frequency: On occasion.

Burden Estimate: The estimated burden is 442 hours a year.

5. Title: Barges Carrying Bulk Hazardous Materials.

OMB Control Number: 2115-0541.

Summary: 46 U.S.C. 3703 authorizes the Coast Guard to prescribe rules related to the carriage of liquid bulk dangerous cargoes. 46 CFR part 151 prescribes rules for barges carrying bulk liquid hazardous materials.

Need: This information is needed to ensure the safe shipment of bulk hazardous liquids in barges. In particular, it is needed to ensure that barges meet safety standards and to ensure that barges' crewmembers have the information necessary to operate barges safely.

Respondents: Owners and operators of tank barges.

Frequency: On occasion.

Burden Estimate: The estimated burden is 10,903 hours a year.

Dated: November 7, 2002.
C.I. Pearson,
Director of Information and Technology.

[FR Doc. 02-29325 Filed 11-18-02; 8:45 am]

BILLING CODE 4910-15-P